DEPARTMENT OF AGRICULTURE

Agricultural Research Service

7 CFR Part 505

RIN 0518-AA04

Modification of Interlibrary Loan Fee Schedule

AGENCY: Agricultural Research Service, USDA.

ACTION: Final rule.

SUMMARY: The Agricultural Research Service amends its regulations on the fee schedule for interlibrary loan from the collections of the National Agricultural Library (NAL). The revised fee schedule is based on the method of payment used (traditional invoicing through the National Technical Information Service (NTIS) or payment through the Online Computer Library Center (OCLC) network's Interlibrary Fee Management program, a debit/credit program for interlibrary loan) and eliminates the current billing surcharge, which is instead incorporated into the revised flat fee.

DATES: Effective January 23, 2012, and is applicable beginning January 1, 2012.

ADDRESSES: Address correspondence to Kay Derr, Information Services and Collections Branch, National Agricultural Library, 10301 Baltimore Avenue, Beltsville, MD 20705-2351.

FOR FURTHER INFORMATION CONTACT: Kay Derr, (301) 504-5879 or kay.derr@ars.usda.gov.

FOR FURTHER INFORMATION CONTACT: This rule was published as a proposed rule for comment on September 16, 2011. See 76 FR 57681, September 16, 2011. The potential fee change and publication of the proposed rule were announced on the User Fees section of the NAL Web page and through NAL's Twitter account. Current users of the service were also notified directly by mail and invited to comment. No comments were received.

The previous fee schedule had not been updated since April 2000. This revision brings these fees up to date in order to support the current cost of providing the service. Elimination of the separate billing surcharge will enable customers to estimate charges more easily and distribute them more effectively within their own institutions.

All of the current services will continue to be offered under the revised fee schedule. The lower fee for payment through the Interlibrary Loan Fee Management (IFM) program reflects the lower administrative cost of these transactions due to the fact that IFM payment is wholly electronic and no invoices have to be produced or mailed. The National Agricultural Library will continue to invoice and collect fees through the National Technical Information Service (NTIS) for libraries which do not pay through IFM. The fee for invoiced requests is higher in order to cover the fee charged by NTIS for producing and processing invoices. This change has been reviewed by the Office of Management and Budget and deemed “not significant.”

This action is not a “rule” as defined under the Regulatory Flexibility Act (5 U.S.C. 601, et seq.) and thus is exempt from provisions of that Act.

This action is not likely to have an impact of $100 million or more on the U.S. economy and thus is not a “significant regulatory action” under Executive Order (“E.O.”) 12866. Therefore, this notice is not subject to formal Office of Management and Budget review.

List of Subjects in 7 CFR Part 505

Agricultural research, Agriculture, Libraries, Research, User fees.

For reasons set forth in the preamble, the Agricultural Research Service revises 7 CFR part 505 to read as follows:

PART 505—NATIONAL AGRICULTURAL LIBRARY FEES FOR LOANS AND COPYING

Sec.
505.1 Scope and purpose.
505.2 Fees for loans, copying, and reproduction of materials in library collections.
505.3-505.5 [Reserved]
505.6 Payment of fees.

Authority: 5 U.S.C. 301; 7 U.S.C. 3125a.

§ 505.1 Scope and purpose.

These regulations establish fees for loans, copying, or reproduction of materials in the collections of the National Agricultural Library (NAL) within the United States Department of Agriculture (USDA).

§ 505.2 Fees for loans, copying, and reproduction of materials in library collections.

(a) NAL will provide interlibrary loan service (including loans of original materials from its collections and copies of portions of documents with copyright compliance) and charge fees for such service to other non-Federal and non-USDA libraries and institutions. Loans will be provided within the United States and Canada only. Copies will be provided within the United States and internationally.

(b) Interlibrary loan service will be provided at a flat fee of $18 per request for libraries paying electronically through the Online Computer Library Center's (OCLC) Interlibrary Loan Fee Management (IFM) program and at a flat rate of $25 per request for libraries paying by other methods.

(c) Cost for replacement of lost or damaged items will be the actual cost to purchase a replacement plus a $50.00 processing fee; or if replacement cost cannot be determined, a flat rate of $75.00 for monographs or $150.00 for audiovisuals per item plus a $50.00 processing fee.

(d) Photographic services from NAL Special Collections will be charged at cost for reproduction of the photo product (slides, transparencies, etc.) plus a preparation fee of $25.00 per half hour or fraction thereof.

§ 505.3-505.5 [Reserved]

§ 505.6 Payment of fees.

NAL charges for interlibrary loans through OCLC's IFM Program (an electronic debit/credit payment program for libraries using OCLC's resource sharing service) or by invoice through the National Technical Information Service (NTIS) of the United States Department of Commerce. Payment for invoiced services will be made by check, money order, or credit card in U.S. funds directly to NTIS upon receipt of invoice from NTIS. NAL encourages users to establish deposit accounts with NTIS for payment of interlibrary loan fees. Subject to a reduction for the actual costs of performing the invoicing service by NTIS, all funds will be returned to NAL for credit to the appropriations account charged with the cost of processing the interlibrary loan request.

Dated: January 13, 2012.
Edward B. Knipling,
Administrator, Agricultural Research Service.

[FR Doc. 2012-1251 Filed 1-20-12; 8:45 am]

BILLING CODE 3410-03-P